DEPARTMENT OF ENERGY

Federal Energy Regulatory Commission

[Docket No. EL15-4-000]

Trans-Allegheny Interstate Line Company; Notice of Petition for Declaratory Order

Take notice that on October 7, 2014, pursuant to Rule 207 of the Federal Energy Regulatory Commission's (FERC or Commission) Rules of Practice and Procedure, 18 CFR 385.207 (2014), Trans-Allegheny Interstate Line Company (TrAILCo) filed a petition for declaratory order requesting that the Commission declare that the periodic payment by TrAILCo of dividends out of paid-in capital to its parent FirstEnergy Transmission, LLC (FET) will not violate section 305(a) of the Federal Power Act.¹ In addition, TrAILCo states that granting the declaratory order will provide TrAILCo with the needed flexibility to declare and pay periodic dividends to FET out of paid-in capital from time to time as needed to maintain a balanced capital structure within the range of capital structures approved by the Commission.

¹ 16 U.S.C. 825d (2014).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 6, 2014.

Dated: October 8, 2014.
Kimberly D. Bose,
Secretary.

[FR Doc. 2014-24552 Filed 10-15-14; 8:45 am]

BILLING CODE 6717-01-P